NUCLEAR REGULATORY COMMISSION

Advisory Committee on the Medical Uses of Isotopes: Meeting Notice

AGENCY: Nuclear Regulatory Commission.

ACTION: Notice of meeting.

SUMMARY: The U.S. Nuclear Regulatory Commission (NRC) will convene a meeting of the Advisory Committee on the Medical Uses of Isotopes (ACMUI) on December 5-6, 2022. A sample of agenda items to be discussed during the public session includes: an overview of Y-90 medical events; overview of the review of Lu-177-PSMA for the treatment of adult patients with prostate cancer; review of pre-rulemaking documents for the rulemaking to establish requirements for Rb-82 generators and emerging medical technologies; and overview of the status of rulemaking for regulations for decommissioning financial assurance for sealed and unsealed radioactive materials. The agenda is subject to change. The current agenda and any updates will be available on the ACMUI's Meetings and Related Documents web page at https://www.nrc.gov/reading-rm/doc-collections/acmui/meetings/2022.html or by emailing Ms. Gupta Sarma at the contact information below.

Purpose: Discuss issues related to 10 CFR part 35, Medical Use of Byproduct Material.

Date and Time for Open Sessions: December 5, 2022, from 8:30 a.m. to 4:30 p.m. EST, December 6, 2022, from 10:00 a.m. to 12:00 p.m. EST.

Date and Time for Closed Session: December 6, 2022, from 1:30 p.m. to 3:30 p.m. EST. This session will be closed to conduct the ACMUI's required annual training.

Address for Public Meeting: U.S. Nuclear Regulatory Commission, One White Flint North Building, Commissioner's Hearing Room, 11555 Rockville Pike, Rockville, Maryland 20852.

Date | Webinar information (Microsoft teams)
December 5, 2022 | Link: https://teams.microsoft.com/l/meetup-join/19%3ameeting_MGZiN2JhZDctNGMzYS00OTRjLWFiYjktYjNjMDM3Y2RhOGI2%40thread.v2/0?context=%7b%22Tid%22%3a%22e8d01475-c3b5-436a-a065-5def4c64f52e%22%2c%22Oid%22%3a%225b3cab2a-da77-46d1-b0df-ca02d21f6361%22%7d.
| Meeting ID: 248 090 740 397.
| Passcode: HE2JRc.
| Call in number (audio only): +1 301-576-2978 (Silver Spring, MD, US).
| Phone Conference ID: 767 488 798#.

Public Participation: Any member of the public who wishes to participate in the meeting in person, via Microsoft Teams, or via phone should contact Ms. Gupta Sarma using the information below. The Meeting will be webcast live from the NRC's Webcast Portal at https://video.nrc.gov/. Members of the public should also monitor the NRC's Public Meeting Schedule at https://www.nrc.gov/pmns/mtg for any meeting updates.

Contact Information: Ms. Gupta Sarma, email: TXG5@nrc.gov.

Conduct of the Meeting

The ACMUI Chair, Darlene F. Metter, M.D., will preside over the meeting. Dr. Metter will conduct the meeting in a manner that will facilitate the orderly conduct of business. The following procedures apply to public participation in the meeting:

1. Persons who wish to provide a written statement should submit an electronic copy to Ms. Gupta Sarma using the contact information listed above. All submittals must be received by the close of business on November 29, 2022 and must only pertain to the topics on the agenda.

2. Questions and comments from members of the public will be permitted during the meeting, at the discretion of the ACMUI Chair.

3. The draft transcript and meeting summary will be available on ACMUI's website https://www.nrc.gov/reading-rm/doc-collections/acmui/meetings/2022.html on or about January 20, 2023.

4. Persons who require special services, such as those for the hearing impaired, should notify Ms. Gupta Sarma of their planned participation.

This meeting will be held in accordance with the Atomic Energy Act of 1954, as amended (primarily Section 161a); the Federal Advisory Committee Act (5 U.S.C. App); and the Commission's regulations in Title 10 of the Code of Federal Regulations, Part 7.

Dated at Rockville, Maryland this 4th day of November 2022.
For the U.S. Nuclear Regulatory Commission.
Russell E. Chazell,
Federal Advisory Committee Management Officer.

[FR Doc. 2022-24480 Filed 11-8-22; 8:45 am]

BILLING CODE 7590-01-P